FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records entitled BGFRS/OIG-2 “Office of Inspector General (OIG) Personnel Records.” These records are collected and maintained to assist the OIG in making determinations regarding hiring, retention, promotion, performance evaluations, recognition, and training of OIG personnel. These records are also used to respond to ethics inquires and provide advice.

DATES: Comments must be received on or before February 24, 2025. This new system of records will become effective February 24, 2025, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS/OIG-2: FRB—OIG Personnel Records, by any of the following methods:

• Agency Website: https://www.federalreserve.gov/apps/proposals/. Follow the instructions for submitting comments, including attachments. Preferred Method.

• Mail: Ann E. Misback, Secretary, Board of Governors of the Federal Reserve System, 20th Street and Constitution Avenue NW, Washington, DC 20551.

• Hand Delivery/Courier: Same as mailing address.

• Other Means: publiccomments@frb.gov. You must include the docket number in the subject line of the message.

Comments received are subject to public disclosure. In general, comments received will be made available on the Board's website at https://www.federalreserve.gov/apps/proposals/ without change and will not be modified to remove personal or business information including confidential, contact, or other identifying information. Comments should not include any information such as confidential information that would be not appropriate for public disclosure. Public comments may also be viewed electronically or in person in Room M-4365A, 2001 C St. NW, Washington, DC 20551, between 9 a.m. and 5 p.m. during Federal business weekdays.

FOR FURTHER INFORMATION CONTACT: Matthew C. Glover, Senior Counsel, (202) 736-1994 or matthew.c.glover@frb.gov; Legal Division, Board of Governors of the Federal Reserve System, 20th Street and Constitution Avenue NW, Washington, DC 20551. For users of telephone systems via text telephone (TTY) or any TTY-based Telecommunications Relay Services, please call 711 from any telephone, anywhere in the United States.

SUPPLEMENTARY INFORMATION: The Board is amending BGFRS/OIG-2 to reflect changes that have occurred since this system of records was last amended in 2008.

The Board is updating the categories of records to include video and audio recordings and facilitate the Board OIG's voluntary compliance with certain provisions of Executive Order 14074, Advancing Effective, Accountable Policing and Criminal Justice Practices to Enhance Public Trust and Public Safety, issued May 25, 2022. Video and audio recordings of individuals may be captured by OIG criminal investigators wearing body cameras during investigative operations and may be relevant to the OIG's personnel determinations. While such video and audio recordings will generally be stored in BGFRS/OIG-1, “FRB—OIG Investigative Records,” they may be duplicated and stored in this OIG Personnel records system to the extent necessary to assist the OIG in making determinations related to hiring, retention, promotion, performance evaluations, recognition, or training of OIG personnel. Accordingly, the Board is also adding E.O. 14074 to the list of authorities for this system.

The Board is also updating the categories of records included in the system to add ethics related records. Consistent with this addition, the Board is revising the purpose of the system to reflect the OIG's use of the records to respond to ethics inquiries and provide related advice. Further, the Board is also revising the category of individuals covered by the system to include prospective employees of the OIG. The Board is also updating the location of the system, the system manager, and the access controls.

In addition, the Board is revising system-specific Routine Use 4 and deleting system-specific Routine Use 5. The Board is deleting the current Routine Use 5 as disclosures contemplated under that use will now be incorporated into revised Routine Use 4. The Board is also revising system-specific Routine Use 4 regarding the audit or review of the OIG's investigatory program by outside entities or persons to permit the release of individually identifiable information. The Board is making this change because the OIG may need to be able to share identifiable information for an audit or review to be effective. In its current form, the Routine Use 4 limits disclosure to information that is not individually identifiable information; however, release of information that is not individually identifiable is not a disclosure of Privacy Act information and therefore the Board is revising Routine Use 4 to remove this language. Finally, the revision to system-specific Routine Use 4 also accounts for the technical amendments to the Inspector General Act of 1978, which replaced the Executive Council on Integrity and Efficiency and the President's Council on Integrity and Efficiency with the Council of the Inspectors General on Integrity and Efficiency.

In order to permit information sharing contemplated under E.O. 14074, the Board is amending the system to add a new routine use, which will be Routine Use 5. The new routine use will permit the Board to disclose information to a federal, state, or local agency maintaining civil, criminal, or other relevant investigative information for purposes of data collection on OIG law enforcement activities. This routine use will allow the Board to share information with various government-wide databases, such as the FBI National Use-of-Force Data Database, to enhance public trust and public safety.

The Board is also making technical changes to BFRS/OIG-2 consistent with the template laid out in OMB Circular No. A-108. Accordingly, the Board is making technical corrections and non-substantive language revisions to the following categories: “Policies and Practices for Storage of Records,” “Policies and Practices for Retrieval of Records,” “Policies and Practices for Retention and Disposal of Records,” “Administrative, Technical and Physical Safeguards,” “Record Access Procedures,” “Contesting Record Procedures” and “Notification Procedures.” The Board is also adding the following new fields: “Security Classification” and “History.”

SYSTEM NAME AND NUMBER:

BGFRS/OIG-2, FRB—OIG Personnel Records

SECURITY CLASSIFICATION:

Unclassified.

SYSTEM LOCATION:

Office of Inspector General (OIG) for the Board of Governors of the Federal Reserve System (Board) and the Consumer Financial Protection Bureau (CFPB), 1825 and 1875 I Street NW, Washington, DC 20006.

SYSTEM MANAGER(S):

John Weismiller, Chief of Staff to the Inspector General, (202) 973-6180 or john.l.weismiller@frb.gov; Office of Inspector General (OIG), Board of Governors of the Federal Reserve System and Consumer Financial Protection Bureau, 1825 and 1875 I Street NW, Washington, DC 20006.

AUTHORITY FOR MAINTENANCE OF THE SYSTEM:

Section 8E of the Inspector General Act of 1978 (5 U.S.C. 415(g)(2)), Section 11 of the Federal Reserve Act (12 U.S.C. 248(l)), Executive Order 9397, and Executive Order 14074.

PURPOSE(S) OF THE SYSTEM:

These records are collected and maintained to assist the OIG in making determinations regarding hiring, retention, promotion, performance evaluations, recognition, and training of OIG personnel. These records are also used to respond to ethics inquires and provide related advice.

CATEGORIES OF INDIVIDUALS COVERED BY THE SYSTEM:

Persons who have applied for employment with the OIG, prospective employees, and OIG employees.

CATEGORIES OF RECORDS IN THE SYSTEM:

The OIG personnel system contains information relating to hiring, education, training, employment history, earnings, and ethics inquires and advice for OIG employees. It also contains but is not limited to personnel-related information such as appraisals of past performance, the results of tests, appraisals of potential, honors, and awards of fellowships, military service or veteran status, school transcripts, work samples, birth date and Social Security number, offer letters and correspondence, reference checks, and the contacts details (including the home address) of past, present, and prospective employees of the OIG. The OIG personnel system may contain video and audio recordings, and other information of a personal nature provided or obtained in connection with an investigation. The OIG personnel system may also include allocations of time spent on various OIG projects and tasks and related documents and reports.

RECORD SOURCE CATEGORIES:

Information is provided by the individual to whom the record pertains, educational institutions, Board officials, and other individuals or entities.

ROUTINE USES OF RECORDS MAINTAINED IN THE SYSTEM, INCLUDING CATEGORIES OF USERS AND PURPOSES OF SUCH USES:

General routine uses A, B, C, D, E, F, G, I, and J apply to this system. These general routine uses are located at: https://www.federalreserve.gov/files/SORN page general-routine-uses-of-board-systems-of-records.pdf and are published in the Federal Register at 83 FR 43872 (August 28, 2018) at 43873-74. In addition, records may also be used to disclose:

1. information to intelligence agencies of the United States, including the U.S. Department of Defense, the National Security Agency, the Central Intelligence Agency, and the Federal Bureau of Investigation, for use in intelligence activities;

2. information to any source from which information is requested by the OIG in the course of an investigation, to the extent necessary to identify the individual, inform the course of the nature and purpose of the investigation, and to identify the type of information requested;

3. information in producing summary descriptive statistics and analytical studies to support the function for which the records are collected and maintained, or for related workforce studies (While published statistics and studies do not contain individual identifiers, in some instances the selection of elements of data included in the study may be structured in such a way as to make the data individually identifiable by inference.);

4. information to other federal entities, such as other federal OIGs or the U.S. Government Accountability Office; or to members of the Council of Inspectors General on Integrity and Efficiency (CIGIE), officials and administrative staff authorized by CIGIE to conduct or participate in assessment reviews, or to a private party with which the OIG or the Board has contracted for the purpose of auditing, reviewing, or conducting qualitative assessment reviews of the performance or internal safeguards and management procedures of the OIG, provided the entity acknowledges writing that it is required to maintain Privacy Act safeguards for the information; and

5. information to a federal, state, or local agency maintaining civil, criminal or other relevant investigative information for purposes of data collection on OIG law enforcement activities.

POLICIES AND PRACTICES FOR STORAGE OF RECORDS:

Paper records in this system are stored in locked file cabinets with access limited to staff with a need to know. Electronic records are stored on a secure server with access limited to staff with a need to know.

POLICIES AND PRACTICES FOR RETRIEVAL OF RECORDS:

Records may be retrieved by a variety of personal identification means such as Social Security Number, name, or other personal identifier.

POLICIES AND PRACTICES FOR RETENTION AND DISPOSAL OF RECORDS:

All records are retained for the appropriate period, which ranges from immediate destruction to thirty years after separation or transfer.

ADMINISTRATIVE, TECHNICAL, AND PHYSICAL SAFEGUARDS:

Access to records is limited to those whose official duties require it. Paper records are secured by lock and key, and electronic records are secured by encryption, password protection, and/or other secure mechanisms.

RECORD ACCESS PROCEDURES:

The Privacy Act allows individuals the right to access records maintained about them in a Board system of records. Your request for access must: (1) contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

Current or former Board employees making a Privacy Act request for records maintained by the Office of Inspector General may submit their request to the—Inspector General, Board of Governors of the Federal Reserve System, 20th Street and Constitution Avenue NW, Washington, DC 20551.

You may also submit your Privacy Act request electronically by filling out the required information at: https://foia.federalreserve.gov/.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

Certain portions of this system of records may be exempt from 5 U.S.C. 552a(c)(3), (d), (e)(1), (e)(4)(G), (H), and (I), and (f) of the Privacy Act pursuant to 5 U.S.C. 552a(k)(5).

HISTORY:

This system was previously published in the Federal Register at 73 FR 24984 at 25013 (May 6, 2008). The SORN was also amended to incorporate two new routine uses required by OMB at 83 FR 43872 (August 28, 2018).

Board of Governors of the Federal Reserve System.
Benjamin W. McDonough,
Deputy Secretary of the Board.

[FR Doc. 2025-01682 Filed 1-23-25; 8:45 am]

BILLING CODE 6210-01-P